DEPARTMENT OF STATE

[Public Notice: 12026]

Foreign Affairs Policy Board Meeting Notice

ACTION: Closed meeting.

In accordance with the Federal Advisory Committee Act, 5 U.S.C. App., the Department of State announces a meeting of the Foreign Affairs Policy Board to take place on April 24-25, 2023, at the Department of State, Washington, DC.

The Foreign Affairs Policy Board will review and assess: (1) Engagement with cities and states to promote sub-national diplomacy; (2) Emerging technologies and implications for Foreign Policy; (3) Economic trends with implications for the United States' role abroad; and (4) Placing Current Geopolitical Competition in Historical and Strategic Context. Pursuant to section 10(d) of the Federal Advisory Committee Act, 5 U.S.C. App § 10(d), and 5 U.S.C. 552b(c)(1), it has been determined that this meeting will be closed to the public as the Board will be reviewing and discussing matters properly classified in accordance with E.O. 13526.

For more information, contact Timothy Peltier at (202) 647-2236 or peltierte@state.gov.

Timothy Peltier,
Designated Federal Officer, Office of Policy Planning, Department of State.

[FR Doc. 2023-06315 Filed 3-27-23; 8:45 am]

BILLING CODE 4710-10-P